DEPARTMENT OF HEALTH AND HUMAN SERVICES

Centers for Disease Control and Prevention

[30-Day-10-0816]

Agency Forms Undergoing Paperwork Reduction Act Review

The Centers for Disease Control and Prevention (CDC) publishes a list of information collection requests under review by the Office of Management and Budget (OMB) in compliance with the Paperwork Reduction Act (44 U.S.C. Chapter 35). To request a copy of these requests, call the CDC Reports Clearance Officer at (404) 639-5960 or send an e-mail to omb@cdc.gov. Send written comments to CDC Desk Officer, Office of Management and Budget, Washington, DC or by fax to (202) 395-5806. Written comments should be received within 30 days of this notice.

Proposed Project

Youth Knowledge, Attitudes, and Feedback to Inform Choose Respect Implementation formerly known as Youth Advice and Feedback to Inform Choose Respect Implementation (OMB no. 0920-0816 exp. 6/30/2012)—Revision—National Center for Injury Prevention and Control (NCIPC), Centers for Disease Control and Prevention (CDC).

Background and Brief Description

This is a revision for a currently approved collection, OMB# 0920-0816. This revision seeks approval to ask knowledge and attitude questions at several of the focus groups, and it seeks an adjustment in the ages of the youths (currently ages 11 through 14 to ages 11 through 18).

Over a three-year period, NCIPC seeks to understand youths' (ages 11 through 18) knowledge and attitudes regarding healthy and unhealthy relationships, and obtain their feedback regarding: Message development/placement, creative executions, appropriate partners, and other similar issues. This data collected will provide for ongoing implementation and evaluation of the Choose Respect campaign, which is an initiative intended to promote youth awareness of and participation in healthy dating relationships. Communication research indicates that campaign planning implementation must employ a consumer-oriented approach to ensure that program messages/materials, and their placement, can successfully gain the attention of and resonate with the intended audience. NCIPC proposes conducting further planning, implementation, and evaluation research that enlists the involvement and support of youths.

This proposed information collection will enlist geographically, culturally/racially/ethnically, and socio-economically diverse groups of young people to complete: (1) Ten-minute online surveys, with 200 respondents, up to four times per year; and (2) up to 36 in-person focus groups, with up to eight participants each (or more smaller discussion groups with fewer people per group), twice per year (288 × 2). Online surveys will reduce the potential burden for young people as Web-based formats are convenient and consistent with the way they communicate and spend their leisure time.

Online surveys—Each Web-based survey will involve a different group of tweens/teens. The burden table shows time to screen parents and youth, as well as the actual time to complete the survey (rows 4-6).

In-person focus groups—First and second focus groups will involve different groups of young people. The focus groups will be segmented by age, gender, and race/ethnicity. Other variables for segmentation may include, but not be limited to, geography and language. Two youth contacts will be needed to successfully recruit one focus group participant, and two parent contacts will be needed to successfully recruit one online survey participant (i.e., 400 participants screened to obtain 200 successful participants).

There are no costs to respondents other than their time. The total estimated burden hours are 1354.

Estimated Annualized Burden Hours
Type of respondents | Data collection type | Number of respondents | Number of responses per respondent | Average burden per response (in hours)
Youths ages 11 to 18 and parents of boys and girls, ages 11 to 18 | Focus Group Screening Instrument for Youth and Script for Obtaining Verbal Consent from Parent | 576 | 2 | 5/60
Youths ages 11 to 18 | Focus Group Survey | 288 | 2 | 5/60
Youths ages 11 to 18 | Focus Group Moderator's Guide (participation in focus group) | 288 | 2 | 1.5
Parents of boys and girls, ages 11 to 18 | Online Survey E-mail Invitation AND Online Survey Screening Instrument for Parents | 400 | 4 | 5/60
Youths ages 11 to 18 | Online Survey Screening Instrument for Youth | 400 | 4 | 3/60
Youths ages 11 to 18 | Online Survey | 200 | 4 | 10/60

Dated: June 25, 2010.
Maryam I. Daneshvar,
Acting Reports Clearance Officer, Centers for Disease Control and Prevention.

[FR Doc. 2010-16045 Filed 6-30-10; 8:45 am]

BILLING CODE 4163-18-P